DEPARTMENT OF TRANSPORTATION

Federal Aviation Administration

14 CFR Part 73

[Docket No. FAA-2013-1021; Airspace Docket No. 13-ASO-23]

RIN 2120-AA66

Amendment of Restricted Areas; Camp Lejeune and Cherry Point, NC

AGENCY: Federal Aviation Administration (FAA), DOT.

ACTION: Final rule; technical amendment.

SUMMARY: This action changes the name of the using agency for Restricted Areas R-5303A, B and C; R-5304A, B and C, Camp Lejeune, NC; and R-5306D and E, Cherry Point, NC. This is an administrative change to reflect organizational restructuring within the United States Marine Corps. It does not affect the boundaries, designated altitudes, time of designation or activities conducted within the affected restricted areas.

DATES: Effective date: 0901 UTC, April 3, 2014.

FOR FURTHER INFORMATION CONTACT: Paul Gallant, Airspace Policy and Regulations Group, Office of Airspace Services, Federal Aviation Administration, 800 Independence Avenue SW., Washington, DC 20591; telephone: (202) 267-8783.

SUPPLEMENTARY INFORMATION:

The Rule

This action amends Title 14 Code of Federal Regulations (14 CFR) part 73 by updating the using agency name for Restricted Areas R-5303A, B and C, Camp Lejeune, NC; R-5304 A, B and C, Camp Lejeune, NC; and R-5306D and E, Cherry Point, NC. Organizational restructuring within the U.S. Marine Corps has made this action necessary. This is an administrative change and does not affect the boundaries, designated altitudes, or activities conducted within the restricted area, therefore, notice and public procedures under 5 U.S.C. 553(b) are unnecessary.

The FAA has determined that this action only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it makes an administrative change to the descriptions of Restricted Areas R-5303A, B and C; and R-5304A, B and C, Camp Lejeune, NC; and R-5306D and E, Cherry Point, NC to reflect organizational realignments within the U.S. Marine Corps.

Environmental Review

The FAA has determined that this action qualifies for categorical exclusion under the National Environmental Policy Act in accordance with FAA Order 1050.1E, Environmental Impacts: Policies and Procedures, paragraph 311d. This airspace action is an administrative change to the descriptions of the affected restricted area to update the using agency name. It does not alter the dimensions, altitudes, or times of designation of the airspace; therefore, it is not expected to cause any potentially significant environmental impacts, and no extraordinary circumstances exist that warrant preparation of an environmental assessment.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.53 [Amended]

2. Section 73.53 is amended as follows:

1. R-5303A Camp Lejeune, NC [Amended]

By removing the words “Using agency. USMC, Commanding Officer, U.S. Marine Corps Base Camp Lejeune, NC, ” and add in their place “Using agency. USMC, Commanding General, Marine Corps Installations East-Marine Corps Base Camp Lejeune, NC”

2. R-5303B Camp Lejeune, NC [Amended]

By removing the words “Using agency. USMC, Commanding Officer, U.S. Marine Corps Base Camp Lejeune, NC, ” and add in their place “Using agency. USMC, Commanding General, Marine Corps Installations East-Marine Corps Base Camp Lejeune, NC”

3. R-5303C Camp Lejeune, NC [Amended]

By removing the words “Using agency. USMC, Commanding Officer, U.S. Marine Corps Base Camp Lejeune, NC, ” and add in their place “Using agency. USMC, Commanding General, Marine Corps Installations East-Marine Corps Base Camp Lejeune, NC”

4. R-5304A Camp Lejeune, NC [Amended]

By removing the words “Using agency. USMC, Commanding Officer, U.S. Marine Corps Base Camp Lejeune, NC, ” and add in their place “Using agency. USMC, Commanding General, Marine Corps Installations East-Marine Corps Base Camp Lejeune, NC”

5. R-5304B Camp Lejeune, NC [Amended]

By removing the words “Using agency. USMC, Commanding Officer, U.S. Marine Corps Base Camp Lejeune, NC, ” and add in their place “Using agency. USMC, Commanding General, Marine Corps Installations East-Marine Corps Base Camp Lejeune, NC”

6. R-5306D Cherry Point, NC [Amended]

By removing the words “Using agency. USMC, Commanding Officer, U.S. Marine Corps Base Camp Lejeune, NC, ” and add in their place “Using agency. USMC, Commanding General, Marine Corps Installations East-Marine Corps Base Camp Lejeune, NC”

7. R-5306E Cherry Point, NC [Amended]

By removing the words “Using agency. USMC, Commanding Officer, U.S. Marine Corps Base Camp Lejeune, NC, ” and add in their place “Using agency. USMC, Commanding General, Marine Corps Installations East-Marine Corps Base Camp Lejeune, NC”

Issued in Washington, DC on January 14, 2014.
Ellen Crum,
Acting Manager, Airspace Policy and Regulations Group.

[FR Doc. 2014-01052 Filed 1-17-14; 8:45 am]

BILLING CODE 4910-13-P